DEPARTMENT OF TRANSPORTATION

Federal Aviation Administration

14 CFR Part 39

[Docket No. FAA-2005-22053; Directorate Identifier 2004-NM-74-AD; Amendment 39-14449; AD 2006-01-10]

RIN 2120-AA64

Airworthiness Directives; Airbus Model A300 B4-600, B4-600R, and F4-600R Series Airplanes, and Model C4-605R Variant F Airplanes (Collectively Called A300-600 Series Airplanes); and Airbus Model A310 Series Airplanes

AGENCY: Federal Aviation Administration (FAA), Department of Transportation (DOT).

ACTION: Final rule.

SUMMARY: The FAA is adopting a new airworthiness directive (AD) for certain Airbus airplanes, listed above. This AD requires installing two-stage relays in the electronics rack (90VU), and performing related corrective and investigative actions. This AD results from reports of inadvertent rudder trim activation when the autopilot is on. We are issuing this AD to prevent inadvertent trim activation when the autopilot is on and the slats are extended, which could result in rudder activation when the autopilot is turned off.

DATES: This AD becomes effective February 16, 2006.

The Director of the Federal Register approved the incorporation by reference of certain publications listed in the AD as of February 16, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B4-600, B4-600R, and F4-600R series airplanes, and Model C4-605R Variant F airplanes (collectively called A300-600 series airplanes); and Airbus Model A310 series airplanes. That NPRM was published in the Federal Register on August 10, 2005 (70 FR 46437). That NPRM proposed to require installing two-stage relays in the electronics rack (90VU), and performing related corrective and investigative actions.

Comments

We provided the public the opportunity to participate in the development of this AD. We have considered the comments received.

Support for the Proposed Rule

Several commenters support the intent of the proposed AD.

Request To Change Applicability

One commenter, the airplane manufacturer, requests that we revise the applicability of the proposed AD to exclude airplanes on which Airbus Modification 11442 has been accomplished.

We agree with the commenter. The requested change would clarify the applicability for operators and be in line with the applicability of the parallel French airworthiness directive. We have revised paragraph (c) of the AD to exclude these airplanes.

Request To Identify Certain Part Numbers

One commenter requests that the parts to be installed be identified in the proposed AD by manufacturer or part number. The commenter assumes that specific part numbers are identified in the referenced service information; however, since such information is not generally available to the public, it is not possible for the commenter to determine precisely which relays are to be installed.

The same commenter also requests that the proposed AD provide for the possible existence of approved PMA parts by appending the phrase “or FAA-approved equivalent part number” to the part number of the part required to be installed. The commenter states that because it cannot determine which relays are to be installed, it is unable to identify if any possible alternatives approved under section 21.303 of the Federal Aviation Regulations (14 CFR 21.303) exist. The commenter notes that airframe manufacturers, particularly foreign-based manufacturers, do not consider the impact of 14 CFR 21.303 in the creation of their service bulletins. Therefore, service documents can, and often do, create conditions that “seek to contravene existing law” by mandating the installation of a certain part-numbered part to the exclusion of all other parts that may now or in the future exist as FAA-approved alternatives.

We do not concur with the commenter's requests. Accomplishing the requirements of this AD involves installing two-stage relays in the electronics rack (90VU). Part numbers associated with accomplishing the installation are listed in the service bulletins referenced in this AD as the appropriate sources of service information. We find that it is impractical for us to list these numerous part numbers in the AD.

However, the commenter's remarks are timely in that the Transport Airplane Directorate currently is in the process of reviewing the issue of addressing PMA parts in ADs as that issue applies to transport category airplanes. Once we have thoroughly examined all aspects of this issue and have made a final determination, we will consider whether our policy needs to be revised. We consider that to delay this AD action would be inappropriate, since we have determined that an unsafe condition exists and that replacement of certain parts must be accomplished to ensure continued safety. Therefore, no change has been made to the AD in this regard.

Request To Reference Earlier and Later Service Bulletins

One commenter requests that we permit the use of future revisions of the service bulletins specified in the proposed AD and in all FAA ADs in general. The commenter states that subsequent revisions of the service bulletin that are not specifically referenced in a rule may not appreciably affect the work accomplished. The commenter gives the example that a revision to annotate the bulletin as “mandatory” would be an administrative change not affecting the scope of work. The commenter states that the cognizant FAA engineering authority should have sufficient information to determine the applicable service bulletin revisions that would accomplish the necessary corrective action, and that the final rule should provide operators with comprehensive information regarding all available data subject to the rule.

In addition, the commenter also points out that when a service bulletin states in the preamble, “no additional work required by this latest revision for any aircraft modified by any previous issue,” the AD should approve of work accomplished up to the revision level available at the time of the proposed rule.

We do not agree with the commenter's request. Approving revisions of service bulletins that have not yet been released would violate the Office of the Federal Register's (OFR) regulations for approving materials that are incorporated by reference. In general terms, we are required by these OFR regulations either to publish the service document contents as part of the actual AD language, or to submit the service document to the OFR for approval as “referenced” material, in which case we may only refer to such material in the text of an AD. The AD may refer to the service document only if the OFR has approved it for “incorporation by reference.” To allow operators to use later revisions of a referenced document, we must either revise the AD to reference the specific later revisions, or operators may request approval to use later revisions as an alternative method of compliance (AMOC) with this AD. Operators may request approval of an AMOC for this AD under the provisions of paragraph (h) of this AD.

For similar reasons, we cannot use the phrase “or any prior revision,” to allow operators to use previous revisions of a service bulletin. However, we list the approved earlier revisions in the AD, which allows us to specify which revisions are approved for compliance with certain or all requirements of the AD. In this particular AD, the approved earlier revisions are identified in paragraph (g), Table 2, of the AD. These approved earlier revisions include, among others, Airbus Service Bulletin A300-27-6031, Revision 01, dated September 3, 1997, and Revision 02, dated December 4, 1998, but not the original revision, dated February 14, 1997. No change to the AD is needed in this regard.

Clarification of AMOCs Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD affects about 115 airplanes of U.S. registry. The actions take between 3 and 14 work hours per airplane, depending on the airplane's configuration, at an average labor rate of $65 per work hour. Required parts cost between $520 and $1,330 per airplane, depending on the airplane's configuration. Based on these figures, the estimated cost of the proposed AD for U.S. operators is between $82,225 and $257,600, or between $715 and $2,240 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-10 Airbus: Amendment 39-14449. Docket No. FAA-2005-22053; Directorate Identifier 2004-NM-74-AD.

Effective Date

(a) This AD becomes effective February 16, 2006.

Affected ADs

(b) None.

Applicability

(c) This AD applies to the Airbus airplanes identified in Table 1 of this AD, certificated in any category, except for airplanes on which Airbus Modification 11442 has been accomplished.

Table 1.—Airbus Airplanes Affected by This AD
Affected models— | As identified in paragraph 1.A.(2)(a), “Effectivity by MSN,” of Airbus Service Bulletin—
Model A300 B4-600, B4-600R, and F4-600R series airplanes, and Model C4-605R Variant F airplanes (collectively called A300-600 series airplanes) | A300-27-6031, Revision 03, dated February 9, 2001.
Model A310 series airplanes | A310-27-2077, Revision 03, dated February 9, 2001.

Unsafe Condition

(d) This AD results from reports of inadvertent rudder trim activation when the autopilot is on. We are issuing this AD to prevent inadvertent trim activation when the autopilot is on and the slats are extended, which could result in rudder activation when the autopilot is turned off.

Compliance

(e) You are responsible for having the actions required by this AD performed within the compliance times specified, unless the actions have already been done.

Installation

(f) Within 16 months after the effective date of this AD: Install two-stage relays in the electronics rack 90VU between switch 4CG and relays 12CG and 13CG; and do any applicable related corrective and investigative actions before further flight. Do all the actions in accordance with the Accomplishment Instructions of Airbus Service Bulletin A300-27-6031, Revision 03, dated February 9, 2001 (for Model A300-600 series airplanes); or Airbus Service Bulletin A310-27-2077, Revision 03, dated February 9, 2001 (for Model A310 series airplanes).

Modification According to Previous Issues of Service Bulletins

(g) Installations are also acceptable for compliance with the requirements of paragraph (f) of this AD if done before the effective date of this AD in accordance with one of the service bulletins identified in Table 2 of this AD.

Table 2.—Previous Issues of Service Bulletins
Airbus Service Bulletin | Revision | Date
A300-27-6031 | 01 | September 3, 1997.
A300-27-6031 | 02 | December 4, 1998.
A310-27-2077 | 01 | September 3, 1997.
A310-27-2077 | 02 | December 4, 1998.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive 98-175-249(B), dated April 22, 1998, also addresses the subject of this AD.

Material Incorporated by Reference

(j) You must use Airbus Service Bulletin A300-27-6031, Revision 03, dated February 9, 2001; or Airbus Service Bulletin A310-27-2077, Revision 03, dated February 9, 2001; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 30, 2005.
Linda Navarro,
Acting Manager, Transport Airplane Directorate, Aircraft Certification Service.

[FR Doc. 06-182 Filed 1-11-06; 8:45 am]

BILLING CODE 4910-13-P